DEPARTMENT OF JUSTICE

Notice of Lodging of Stipulated Amendment to Consent Decree Under the Clean Water Act

Notice is hereby given that on June 17, 2003, a proposed Stipulated Amendment to Consent Decree in United States and the State of Maryland v. Mayor and City Council of Baltimore, Maryland, Civil Action No. Y-97-4185, was lodged with the United States District Court for the District of Maryland.

The original consent decree, entered on November 19, 1999, resolved the liability of the City of Baltimore, Maryland (“Baltimore”) arising out of, and with respect to, the claims for relief asserted in the United States' Complaint and Amended Complaints, and the State of Maryland's Complaint in Intervention and Amended Complaints, in this action. The United States and Maryland alleged that Baltimore violated the Clean Water Act, 33 U.S.C. 1251 et seq., and the terms and conditions of National Pollutant Discharge Elimination System (“NPDES”) permits, by discharging excessive levels of pollutants from Baltimore's Ashburton Water Filtration Plant and Patapsco Wastewater Treatment Plant.

As part of the settlement embodied in the Consent Decree, Baltimore agreed to perform three Supplemental Environmental Projects (“SEPs”) pursuant to the work plans and schedules attached to the consent decree as Appendix C and incorporated into the consent decree by reference. As set forth in the proposed Stipulated Amendment, the parties have agreed upon an extension of the schedules for these projects, to be enforceable by specific per diem penalties for delay in performance.

The Department of Justice will receive for a period of thirty (30) days from the date of this publication comments relating to the Stipulated Amendment. Comments should be addressed to the Assistant Attorney General, Environment and Natural Resources Division, P.O. Box 7611, U.S. Department of Justice, Washington, DC 20044-7611, and should refer to United States and the State of Maryland v. Mayor and City Council of Baltimore, Maryland, D.J. Ref. No. 90-5-1-1-4402.

The Stipulated Amendment to Consent Decree may be examined at the Office of the United States Attorney, District of Maryland, United States Courthouse, 101 West Lombard Street, Baltimore, MD 21201, and at U.S. Environmental Protection Agency, Region III, 1650 Arch Street, Philadelphia, PA 19103. During the public comment period, the Consent Decree may also be examined on the following Department of Justice Web site, http://www.usdoj.gov/enrd/open.html. A copy of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy, please enclose a check in the amount of $2.25 (25 cents per page reproduction cost) payable to the U.S. Treasury.

W. Benjamin Fisherow,
Deputy Chief, Environmental Enforcement Section, Environment and Natural Resources Division.

[FR Doc. 03-16776 Filed 7-1-03; 8:45 am]

BILLING CODE 4410-15-M